DEPARTMENT OF HOMELAND SECURITY

Coast Guard

[USCG-2009-0937]

Merchant Mariner Credential Medical Evaluation Report (CG-719 K) and the Merchant Mariner Evaluation of Fitness for Entry Level Ratings (CG-719 K/E)

ACTION: Notice of availability.

SUMMARY: The purpose of this notice is to announce the availability of the final version of the Merchant Mariner Credential Medical Evaluation Report (CG-719 K) and the Merchant Mariner Evaluation of Fitness for Entry Level Ratings (CG-719 K/E) forms. These forms will be used to facilitate obtaining objective medical information, which will assist the Coast Guard in making accurate and timely fit-for-duty determinations in order to reduce maritime safety risks.

DATES: The forms became available for use by November 15, 2009.

ADDRESSES: Coast Guard Forms CG-719 K and CG-719 K/E are available on the internet at http://www.regulations.gov, under this docket number [USCG-2009-0937]. They will also be made permanently available on the Coast Guard National Maritime Center's (NMC) internet Web site at: http://www.uscg.mil/nmc.

The Department of Transportation Docket Management Facility maintains the public docket for this notice. All forms mentioned in this Notice are part of this docket and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting “USCG-2009-0937” in the “Keyword” box, and then clicking “Search.”

FOR FURTHER INFORMATION CONTACT: For questions on this notice of availability, e-mail or call LT(jg) Dylan McCall (CG-5434) at U.S. Coast Guard Headquarters, 202-372-1128, e-mail: Dylan.k.mccall@uscg.mil.

For questions on the use of these forms, please contact the NMC by e-mail at iasknmc@uscg.mil or by phone at 1-888-IASKNMC [427-5662].

For questions on viewing the docket, contact Renee V. Wright, Program Manager, Docket Operations, Office of Information Services, Office of the Assistant Secretary for Administration, Office of the Secretary, at M-30, West Building Ground Floor, Room W12-140, 1200 New Jersey Avenue, SE., Washington, DC 20590; telephone: 202-366-9826; e-mail: renee.wright@dot.gov.

SUPPLEMENTARY INFORMATION:

Background and Purpose

The Coast Guard has revised the Merchant Mariner Credential Medical Evaluation Report (CG-719 K) and the Merchant Mariner Evaluation of Fitness for Entry Level Ratings (CG-719 K/E) forms and announces their availability to the public. These forms are used to facilitate obtaining objective medical information, which will assist the Coast Guard in making accurate and timely fit-for-duty determinations in order to reduce maritime safety risks. Please note that these versions of the forms have been approved for use by the Office of Management and Budget (OMB) and have been assigned OMB Control Number 1625-0040.

The CG-719 K/E form should be used only by mariners seeking an entry level merchant mariner credential. This form is limited to applicants for the following rating endorsements: Ordinary Seaman, Wiper, or Steward's Department (food handler). The CG-719K form should be used for all other endorsement applications.

These forms more clearly align the merchant mariner credentialing process with the policies set forth by Navigation and Vessel Inspection Circular (NVIC) 04-08, Medical and Physical Evaluation Guidelines for Merchant Mariner Credentials. (The NVIC is available for viewing at http://www.uscg.mil/hq/cg5/nvic/2000s.asp#2008.) Enclosure (3) to the NVIC provides guidance on use of the forms, which assist the Coast Guard in obtaining objective medical evidence of an applicant's physical condition as it relates to their ability to perform duties as a merchant mariner. Proper use of these forms as guided by NVIC 04-08 should lead to reduced processing times for mariners' applications.

Implementation Timeline

These forms are available at the NMC Web site (see ADDRESSES above). The Coast Guard is working to create both a printable user guide and to embed instructions in the electronic version of the form in order to assist both the mariner and physicians in completing the forms.

The forms are now available for use. Physical exams completed on or after January 1, 2010 must be on the new forms, Rev (01/09). Physical exams completed and signed prior to January 1, 2010, will continue to be accepted with applications submitted after that date; however, they must be dated within one year of application.

This notice is issued under authority of 5 U.S.C. 552(a).

Dated: November 24, 2009.
K. S. Cook,
Rear Admiral, United States Coast Guard, Director of Prevention Policy.

[FR Doc. E9-28718 Filed 11-30-09; 8:45 am]

BILLING CODE 9110-04-P